DEPARTMENT OF EDUCATION

34 CFR Chapter VI

[Docket ID ED-2017-OPE-0076]

Negotiated Rulemaking Committee; Public Hearings

AGENCY: Office of Postsecondary Education, Department of Education.

ACTION: Intent to establish negotiated rulemaking committees.

SUMMARY: We announce our intention to establish two negotiated rulemaking committees to prepare proposed regulations for the Federal Student Aid programs authorized under title IV of the Higher Education Act of 1965, as amended (HEA). The committees will include representatives of organizations or groups with interests that are significantly affected by the subject matter of the proposed regulations. We also announce two public hearings at which interested parties may comment on the topics suggested by the Department and may suggest additional topics that should be considered for action by the negotiating committees. In addition, we announce that the Department will accept written comments on the topics suggested by the Department and suggestions for additional topics that should be considered for action by the negotiating committees.

DATES: The dates, times, and locations of the public hearings are listed under the SUPPLEMENTARY INFORMATION section of this document. We must receive written comments on the topics suggested by the Department and additional topics that should be considered for action by the negotiating committees on or before July 12, 2017.

ADDRESSES: Submit your comments through the Federal eRulemaking Portal or via postal mail, commercial delivery, or hand delivery. We will not accept comments by fax or by email. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery. If you mail or deliver your comments, address them to Wendy Macias, U.S. Department of Education, 400 Maryland Ave. SW., Room 6C111, Washington, DC 20202.

Privacy Note: The Department's policy is to make all comments received from members of the public (including those comments submitted by postal mail, commercial delivery, or hand delivery) available for public viewing in their entirety on the Federal eRulemaking Portal at www.regulations.gov. Therefore, commenters should be careful to include in their comments only information that they wish to make publicly available.

FOR FURTHER INFORMATION CONTACT: For information about the public hearings, go to www2.ed.gov/policy/highered/reg/hearulemaking/2017/index.html or contact: Wendy Macias, U.S. Department of Education, 400 Maryland Ave. SW., Room 6C111, Washington, DC 20202. Telephone: (202) 203-9155 or by email: Wendy.Macias@ed.gov.

For information about negotiated rulemaking in general, see The Negotiated Rulemaking Process for Title IV Regulations, Frequently Asked Questions at www2.ed.gov/policy/highered/reg/hearulemaking/hea08/neg-reg-faq.html or contact: Wendy Macias, U.S. Department of Education, 400 Maryland Ave. SW., Room 6C111, Washington, DC 20202. Telephone: (202) 203-9155 or by email: Wendy.Macias@ed.gov.

If you use a telecommunications device for the deaf (TDD) or text telephone (TTY), call the Federal Relay Service (FRS), toll free, at 1-800-877-8339.

SUPPLEMENTARY INFORMATION: Section 492 of the HEA requires that, before publishing any proposed regulations to implement programs authorized under title IV of the HEA, the Secretary obtain public involvement in the development of the proposed regulations. After obtaining advice and recommendations from the public, the Secretary conducts negotiated rulemaking to develop the proposed regulations. We announce our intent to develop proposed title IV regulations by following the negotiated rulemaking procedures in section 492 of the HEA.

We intend to select participants for the negotiated rulemaking committees from nominees of the organizations and groups that represent the interests significantly affected by the proposed regulations. To the extent possible, we will select from the nominees individual negotiators who reflect the diversity among program participants, in accordance with section 492(b)(1) of the HEA.

Regulatory Issues

We intend to convene a committee to develop proposed regulations to revise the gainful employment regulations published by the Department on October 31, 2014 (79 FR 64889). We intend to convene a second committee to develop proposed regulations to revise the regulations on borrower defenses to repayment of Federal student loans and other matters, published November 1, 2016 (81 FR 75926), and the authority of guaranty agencies in the Federal Family Education Loan Program to charge collection costs under 34 CFR 682.410(b)(6) to a defaulted borrower who enters into a repayment agreement with the guaranty agency.

After a complete review of the public comments presented at the public hearings and in the written submissions, we will publish a document (or documents) in the Federal Register announcing the specific topics for which we intend to establish the negotiated rulemaking committees and a request for nominations for individual negotiators for the committees who represent the communities of interest that would be significantly affected by the proposed regulations. This document will also be posted on the Department's Web site at: www2.ed.gov/policy/highered/reg/hearulemaking/2017/index.html.

Public Hearings

We will hold two public hearings for interested parties to discuss the rulemaking agenda. The public hearings will be held:

• July 10, 2017, at the U.S. Department of Education, 400 Maryland Ave. SW., Barnard Auditorium, Washington, DC 20202.

• July 12, 2017, at Southern Methodist University, Underwood Law Library-Walsh Classroom, 6550 Hillcrest Ave., Dallas, TX 75275.

The public hearings will be held from 9 a.m. to 4 p.m., local time. Further information on the public hearing sites is available at www2.ed.gov/policy/highered/reg/hearulemaking/2017/index.html.

Individuals who would like to present comments at the public hearings must register by sending an email to negreghearing@ed.gov. The email should include the name of the presenter along with the public hearing at which the individual would like to speak, the general topic(s) the individual would like to address, and a general timeframe during which the individual would like to speak (for example, a presenter could indicate morning or afternoon, or before 11 a.m. or after 3 p.m.). We will attempt to accommodate each speaker's preference, but, if we are unable to do so, we will make the determination on a first-come first-served basis, based on the time and date the email was received. It is likely that each participant will be limited to five minutes. The Department will notify registrants of the location and time slot reserved for them. An individual may make only one presentation at the public hearings. If we receive more registrations than we are able to accommodate, the Department reserves the right to reject the registration of an entity or individual that is affiliated with an entity or individual that is already scheduled to present comments, and to select among registrants to ensure that a broad range of entities and individuals is allowed to present. We will accept walk-in registrations for any remaining time slots on a first-come first-served basis, beginning at 8:30 a.m. on the day of the public hearing at the Department's on-site registration table. Registration is not required to observe the public hearings; however, space may be limited.

The Department will post transcripts of the hearings to www2.ed.gov/policy/highered/reg/hearulemaking/2017/index.html. Although the Department will not be videoing the hearings, as this is a public meeting, speakers should be aware that they may be filmed or recorded by members of the public.

Speakers may submit written comments at the public hearings. In addition, the Department will accept written comments via the Federal eRulemaking portal, and by postal mail, commercial delivery, or hand delivery, through July 12, 2017. (See the ADDRESSES section of this document for submission information.)

Schedule for Negotiations

We anticipate that any committees established after the public hearings will begin negotiations in November or December of 2017, with the committees meeting for up to three sessions of three to four days each at roughly five- to eight-week intervals. The committees will meet in the Washington, DC area. The dates and locations of these meetings will be published in a subsequent notice in the Federal Register, and will be posted on the Department's Web site at: www2.ed.gov/policy/highered/reg/hearulemaking/2017/index.html.

Accessible Format: Individuals with disabilities can obtain this document in an accessible format (e.g., Braille, large print, audiotape, or compact disc) by contacting Wendy Macias, U.S. Department of Education, 400 Maryland Ave. SW., Room 6C111, Washington, DC 20202. Telephone: (202) 203-9155 or by email: Wendy.Macias@ed.gov.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: June 13, 2017.
Kathleen A. Smith,
Acting Assistant Secretary for Postsecondary Education.

[FR Doc. 2017-12555 Filed 6-14-17; 11:15 am]

BILLING CODE 4000-01-P